DEPARTMENT OF DEFENSE

Defense Acquisition Regulations System

48 CFR Parts 201, 202, 213, and 215

Defense Federal Acquisition Regulation Supplement; Technical Amendments

AGENCY: Defense Acquisition Regulations System, Department of Defense (DoD).

ACTION: Final rule.

SUMMARY: DoD is making technical amendments to the Defense Federal Acquisition Regulation Supplement (DFARS) to update references and the list of Army contracting activities.

DATES: Effective Date: November 24, 2008.

FOR FURTHER INFORMATION CONTACT: Ms. Michele Peterson, Defense Acquisition Regulations System, OUSD (AT&L) DPAP (DARS), IMD 3D139, 3062 Defense Pentagon, Washington, DC 20301-3062. Telephone 703-602-0311; facsimile 703-602-7887.

SUPPLEMENTARY INFORMATION: This final rule amends DFARS text as follows:

○ 201.201-1. Updates the reference to the DoD publication addressing the operation of the Defense Acquisition Regulations Council.

○ 202.101. Updates the list of Army contracting activities.

○ 213.301. Updates the Web link to the DoD Government charge card guidebook.

○ 215.404-71-4. Updates cross-references.

List of Subjects in 48 CFR Parts 201, 202, 213, and 215

Government procurement.

Michele P. Peterson,
Editor, Defense Acquisition Regulations System.

Therefore, 48 CFR Parts 201, 202, 213, and 215 are amended as follows:

1. The authority citation for 48 CFR Parts 201, 202, 213, and 215 continues to read as follows:

Authority: 41 U.S.C. 421 and 48 CFR Chapter 1.

PART 201—FEDERAL ACQUISITION REGULATIONS SYSTEM

201.201-1 [Amended]

2. Section 201.201-1 is amended in paragraph (c) by removing “DoDI 5000.63” and adding in its place “DoD Instruction 5000.35”.

PART 202—DEFINITIONS OF WORDS AND TERMS

3. Section 202.101 is amended in the definition of “Contracting activity” by revising the list with the heading “ARMY” to read as follows:

202.101 Definitions.

* * * * *

Army

Headquarters, U.S. Army Contracting Command

Joint Contracting Command—Iraq/Afghanistan

National Guard Bureau

Program Executive Office for Simulation, Training, and Instrumentation

U.S. Army Aviation and Missile Life Cycle Management Command

U.S. Army Communications-Electronics Life Cycle Management Command

U.S. Army Corps of Engineers

U.S. Army Expeditionary Contracting Command

U.S. Army Intelligence and Security Command

U.S. Army Joint Munitions and Lethality Life Cycle Management Command

U.S. Army Medical Command

U.S. Army Medical Research and Materiel Command

U.S. Army Mission and Installation Contracting Command

U.S. Army Research, Development, and Engineering Command

U.S. Army Space and Missile Defense Command

U.S. Army Sustainment Command

U.S. Army Tank-Automotive and Armaments Life Cycle Management Command

* * * * *

PART 213—SIMPLIFIED ACQUISITION PROCEDURES

213.301 [Amended]

4. Section 213.301 is amended in paragraph (4), in the first sentence, by removing http://www.acq.osd.mil/dpap/pcard/pcardguidebook.htm and adding in its place http://www.acq.osd.mil/dpap/pdi/pc/docs/dod_charge_card_guide_20080819.doc.

PART 215—CONTRACTING BY NEGOTIATION

215.404-71-4 [Amended]

5. Section 215.404-71-4 is amended in paragraph (e)(1) as follows:

a. By removing “paragraph (c)” and adding in its place “paragraph (f)”; and

b. By removing “paragraph (d)” and adding in its place “paragraph (g)”.

[FR Doc. E8-27789 Filed 11-21-08; 8:45 am]

BILLING CODE 5001-08-P